Proclamation 8661 of April 29, 2011

National Foster Care Month, 2011

By the President of the United States

A Proclamation

Progress in America can be measured by the opportunities we pass on to our children. For nearly half a million youth in foster care across our country, the best path to success we can give them is the chance to experience a loving home where they can feel secure and thrive. During National Foster Care Month, we renew our commitment to ensuring a brighter future for foster youth, and we celebrate the selfless individuals who make a meaningful difference in their lives.

Young people in foster care are in the system through no fault of their own, and each of our Nation’s children deserves a stable home and a devoted family. Strong support structures provide children with the environment needed to learn, grow, and reach their greatest potential. Permanence is critical to the future success of foster youth and must be a key component of foster care initiatives.

My Administration is committed to achieving security for every child and supporting adolescents in foster care as they transition to adulthood. The Permanency Innovations Initiative, spearheaded by the Department of Health and Human Services, is providing support to public-private partnerships focused on decreasing the number of children in long-term foster care. Over the next 5 years, this program will invest $100 million in new intervention strategies to help foster youth move into permanent homes, test new approaches to reducing time spent in foster care placements, and remove the most serious barriers to finding lasting, loving environments. Over 110,000 children in foster care today are waiting to be adopted. Across America, there are families who need these children as much as these children need families. I encourage those interested in adopting a child in need of a home to explore the life-changing resources available at www.AdoptUSKids.org.

We are also investing in the health and well-being of our young people in foster care. Through the American Recovery and Reinvestment Act, we have significantly increased funding for the Title IV-E adoption and foster care assistance program to provide safe and stable out-of-home care for children. As a result of the Healthy, Hunger-Free Kids Act I signed into law last year, all children enrolled in foster care automatically qualify for free meals in all Department of Agriculture child nutrition programs. Additionally, beginning in 2014, the Affordable Care Act will require States to extend Medicaid coverage up to age 26 for all youth who have aged out of the foster care system.

As a Nation, we all have a responsibility to remain persistent in the charge to provide the best care possible for children when they cannot remain in their own homes. During National Foster Care Month, we recognize the efforts of foster families, social workers, faith-based and community organizations, and others that are improving the lives of young people in foster care across our country, and I encourage all Americans to partake in efforts to serve these children in the year ahead.

NOW, THEREFORE, I, BARACK OBAMA, President of the United States of America, by virtue of the authority vested in me by the Constitution and the laws of the United States, do hereby proclaim May 2011 as National Foster Care Month. I call upon all Americans to observe this month by taking an active role in activities across our country that recognize not only these cherished children and youth, but also the commitment of so many that touch their lives at a most challenging time.

IN WITNESS WHEREOF, I have hereunto set my hand this twenty-ninth day of April, in the year of our Lord two thousand eleven, and of the Independence of the United States of America the two hundred and thirty-fifth.

[FR Doc. 2011-11064

Filed 5-4-11; 8:45 am]

Billing code 3195-W1-P